DEPARTMENT OF COMMERCE

Bureau of the Census

Census Advisory Committee of Professional Associations; Meeting

AGENCY: Bureau of the Census, Commerce.

ACTION: Notice of public meeting.

SUMMARY: Pursuant to the Federal Advisory Committee Act (Pub. L. 92-463 as amended by Pub. L. 94-409), the Bureau of the Census (Census Bureau) is giving notice of a meeting of the Census Advisory Committee of Professional Associations. The Committee is composed of 36 members appointed by the Presidents of the American Economic Association, the American Statistical Association, the Population Association of America, and the Chairperson of the Board of the American Marketing Association. The Committee advises the Acting Director, Census Bureau, on the full range of Census Bureau programs and activities in relation to its areas of expertise.

DATES: The meeting will convene on April 18-19, 2002. On April 18, the meeting will begin at 8:30 a.m. and adjourn at 5:15 p.m. On April 19, the meeting will begin at 9 a.m. and adjourn at 12:15 p.m.

ADDRESSES: The meeting will take place at the Sheraton Crystal City Hotel, 1800 Jefferson Davis Highway, Arlington, VA 22202.

FOR FURTHER INFORMATION CONTACT: Maxine Anderson-Brown, Chief, Conference and Travel Management Services Branch, Department of Commerce, U.S. Census Bureau, Room 1647, Federal Building 3, Washington, DC 20233. Her phone number is (301) 457-2308, TDD (301) 457-2540.

SUPPLEMENTARY INFORMATION: The agenda for the meeting on April 18, which will begin at 8:30 a.m. and adjourn at 5:15 p.m., is as follows:

• Introductory Remarks by the Acting Director and the Principal Associate Director for Programs, U.S. Census Bureau

• Census Bureau Responses to Committee Recommendations

• 2010 Census Update

• Within and Between Changes in Human Capital, Technology, and Productivity

• Creating Brand Awareness: What We Do the Other Nine Years

• Data Availability in the Research Data Centers

• Census 2000 Product Evaluation Update

• Coverage of Population in Census 2000: Results from Demographic Analysis

• Computer Security Survey: Status on Questionnaire Development Efforts to Measure the Nature of Computer-Related Crime

• Marketing Foreign Trade Statistics

• Language Guidelines for Survey Methods

• Overview of FY 2003 Economic Program Budget Initiatives

• Census Bureau Centennial Celebration

• Survey of Income and Program Participation Methods Panel

• The Use of Meditate to Support the 2002 Economic Census

• North American Product Classification System: What's Been Done, What's Being Done, What's Next

The agenda for the meeting on April 19, which will begin at 9 a.m. and adjourn at 12:15 p.m., is as follows:

• Chief Economist Update

• Marketing in the Federal Sector: Developing the Culture and Core Competencies

• Administrative Records Applications for Master Address File Improvements

The meeting is open to the public, and a brief period is set aside during the closing session for public comment and questions. Those persons with extensive questions or statements must submit them in writing to the Chief, Conference and Travel Management Services Branch, at least three days before the meeting. Seating is available to the public on a first-come, first-served basis. Individuals wishing additional information or minutes regarding this meeting may contact the Chief, Conference and Travel Management Services Branch as well. Her address and phone number are identified under this notice's FOR FURTHER INFORMATION CONTACT heading.

This meeting is physically accessible to people with disabilities. Requests for sign language interpretation or other auxiliary aids should also be directed to the Chief, Conference and Travel Management Services Branch.

Dated: March 13, 2002.
William G. Barron, Jr.,
Acting Director, Bureau of the Census.

[FR Doc. 02-6580 Filed 3-18-02; 8:45 am]

BILLING CODE 3510-07-P